DEPARTMENT OF DEFENSE

Department of the Navy

Withdrawal of Surplus Land at Military Installations Designated for Realignment: Naval Air Station, Key West, Florida

AGENCY: Department of the Navy, DoD.

ACTION: Notice.

SUMMARY: This Notice provides information on withdrawal of surplus property at the Naval Air Station, Key West, Florida.

FOR FURTHER INFORMATION CONTACT: For further information, contact Richard A. Engel, Head, BRAC Real Estate Section, Department of the Navy, Real Estate Operations, Naval Facilities Engineering Command, Washington Navy Yard, 1322 Patterson Avenue, SE, Suite 1000, Washington, DC 20374-5065, telephone (202) 685-9203, or E. R. Nelson, Jr., Director, Real Estate Division, Southern Division, Naval Facilities Engineering Command, P.O. Box 190010, 2155 Eagle Drive, North Charleston, SC 29419-9010, telephone (803) 820-7494.

SUPPLEMENTARY INFORMATION: In 1995, the Naval Air Station, Key West, Florida was designated for realignment pursuant to the Defense Base Closure and Realignment Act of 1990, Public Law 101-510, as amended. Pursuant to this designation, in April of 1996, approximately 168.14 acres of land and related facilities at this installation were declared surplus to the federal government and available for use by (a) non-federal public agencies pursuant to various statutes which authorize conveyance of property for public projects, and (b) homeless provider groups pursuant to the Stewart B. McKinney Homeless Assistance Act (42 U.S.C. 11411), as amended. Approximately 35 acres of land improved with 10 buildings have been requested for transfer by other federal agencies and was not included within the 168.14 acres. On July 3, 1997, a second determination was made to withdraw approximately 16 acres of improved and unimproved fee simple land at the Naval Air Station, Key West, FL known as the Trumbo Point Annex Tank Farm. A third determination was made on December 20, 1999, to withdraw land and facilities previously reported as surplus that are now required by the federal government. This withdrawal is required to satisfy new military requirements and security concerns. For clarification purposes, the following is a description of land and facilities at the Naval Air Station, Key West that are withdrawn from surplus by the federal government: approximately 3.54 acres of improved and unimproved fee simple land at the Naval Air Station, Key West, FL known as Seminole Battery. Approximately 0.584 of an acre of the Seminole Battery will remain as surplus property. The following is a summary of the improvements located on the above described land. Improvements consist of an above ground 10,000 square foot earthen berm.

Pursuant to paragraph (7)(B) of Section 2905(b) of the Defense Base Closure and Realignment Act of 1990, as amended by the Base Closure Community Redevelopment and Homeless Assistance Act of 1994, the following information regarding the withdrawal of previously reported surplus property at the Naval Air Station, Key West, FL is published in the Federal Register.

Dated: February 1, 2000.
J.L. Roth,
Lieutenant Commander, Judge Advocate General's Corps, U.S. Navy, Federal Register Liaison Officer.

[FR Doc. 00-3103 Filed 2-9-00; 8:45 am]

BILLING CODE 3810-FF-U